DEPARTMENT OF STATE

[Public Notice 8066]

Privacy Act; System of Records: Translator and Interpreter Records, State-37

SUMMARY: Notice is hereby given that the Department of State proposes to amend an existing system of records, Translator and Interpreter Records, State-37, pursuant to the provisions of the Privacy Act of 1974, as amended (5 U.S.C. 552a) and Office of Management and Budget Circular No. A-130, Appendix I.

DATES: This system of records will be effective on December 3, 2012, unless we receive comments that will result in a contrary determination.

ADDRESSES: Any persons interested in commenting on the amended system of records may do so by writing to the Director; Office of Information Programs and Services, A/GIS/IPS; Department of State, SA-2; 515 22nd Street NW.; Washington, DC 20522-8001.

FOR FURTHER INFORMATION CONTACT: Director; Office of Information Programs and Services, A/GIS/IPS; Department of State, SA-2; 515 22nd Street NW.; Washington, DC 20522-8001.

SUPPLEMENTARY INFORMATION: The Department of State proposes that the current system will retain the name “Translator and Interpreter Records” (42 FR 49719). The system will facilitate the procurement and effective performance of translators and interpreters who serve a vital function in accomplishing the Department's foreign policy mission. As part of the biennial review, we have updated all of the sections of the notice for the system to ensure Privacy Act of 1974 compliance.

The Department's report was filed with the Office of Management and Budget. The amended system description, “Translator and Interpreter Records, State-37,” will read as set forth below.

Joyce A. Barr,
Assistant Secretary for Administration, U.S. Department of State.

STATE-37

SYSTEM NAME:

Translator and Interpreter Records.

SECURITY CLASSIFICATION:

Unclassified.

SYSTEM LOCATION:

Department of State, 2401 E Street NW., SA-1, 14th Floor, Washington, DC 20522.

CATEGORIES OF INDIVIDUALS COVERED BY THE SYSTEM:

Individuals who have contracted with the Department of State to provide various translation and interpretation services.

CATEGORIES OF RECORDS IN THE SYSTEM:

The records are collected in the following groups: Biographical information, contractual information, and professional proficiency information. The biographical information includes but is not limited to: Name, social security number; date and place of birth, citizenship, visa information; contact information; education information; languages spoken; and data universal numbering system. The contractual information includes, but is not limited to: The Basic Ordering Agreement (contract or contract award) and work order. The professional proficiency information includes, but is not limited to: Test and interview results (both performance and evaluation) on language proficiency; and performance and evaluation records.

AUTHORITY FOR MAINTENANCE OF THE SYSTEM:

22 U.S.C. 3921 (Management of the Foreign Service), 22 U.S.C. 2651a (Organization of the Department of State).

PURPOSE:

To facilitate the procurement and effective performance of translators and interpreters who serve a vital function in accomplishing the Department's foreign policy mission.

ROUTINE USES OF RECORDS MAINTAINED IN THE SYSTEM, INCLUDING CATEGORIES OF USERS AND THE PURPOSES OF SUCH USES:

Information contained in the Translator and Interpreter Records may be used by potential employers, credit institutions, rental offices etc., requesting verification of employment and/or earnings; and

To provide officials of other U.S. government agencies information needed in the performance of official duties in support of the function for which the records were collected and maintained.

The Department of State periodically publishes in the Federal Register its standard routine uses that apply to all of its Privacy Act systems of records. These notices appear in the form of a Prefatory Statement. These standard routine uses apply to the Translator and Interpreter Records, State-37.

DISCLOSURE TO CONSUMER REPORTING AGENCIES:

None.

POLICIES AND PRACTICES FOR STORING, RETRIEVING, ACCESSING, RETAINING, AND DISPOSING OF RECORDS IN THE SYSTEM:

STORAGE:

Hard copy and electronic.

RETRIEVABILITY:

By individual's name and social security number.

SAFEGUARDS:

All users are given cyber security awareness training which covers the procedures for handling Sensitive but Unclassified information, including personally identifiable information (PII). Annual refresher training is mandatory. In addition, all Foreign Service and Civil Service employees and those Locally Engaged Staff who handle PII are required to take the Foreign Service Institute distance learning course instructing employees on privacy and security requirements, including the rules of behavior for handling PII and the potential consequences if it is handled improperly. Before being granted access to Translator and Interpreter Records, a user must first be granted access to Department of State computer system.

Remote access to the Department of State network from non-Department owned systems is authorized only through a Department-approved access program. Remote access to the network is configured in accordance with the Office of Management and Budget Memorandum M-07-16 security requirements, which include but are not limited to two factor authentication and time-out function.

All Department of State employees and contractors with authorized access have undergone a thorough background security investigation. Access to the Department of State building and its annexes is controlled by security guards, and admission is limited to those individuals possessing a valid identification card or individuals under proper escort. All paper records containing personal information are maintained in secured file cabinets in restricted areas, access to which is limited to authorized personnel. Access to computerized files is password-protected and under the direct supervision of the system manager. The system manager has the capability of printing audit trails of access from the computer media, thereby permitting regular and ad hoc monitoring of computer usage. When it is determined that a user no longer needs access, the user account is disabled.

RETENTION AND DISPOSAL:

Records are retired and destroyed in accordance with published records disposition schedules of the Department of State and as approved by the National Archives and Records Administration (NARA). More specific information may be obtained by writing the Director, Office of Information Programs and Services, Department of State, SA-2, 515 22nd Street NW., Washington, DC 20522-8001.

SYSTEM MANAGER(S) AND ADDRESS:

Director, Office of Language Services, Department of State, 2401 E Street NW., SA-1, 14th Floor, Washington, DC 20522.

NOTIFICATION PROCEDURE:

Individuals who have cause to believe that Office of Language Services might have records pertaining to them should write to the Director, Office of Information Programs and Services, Department of State, SA-2, 515 22nd Street NW., Washington, DC 20522-8001. The individual must request to have the Translator and Interpreter Records checked. At a minimum, the individual must include: Name; date and place of birth; current mailing address and zip code; signature; a brief description of the circumstances, including the approximate dates on which the individual has cause to believe that the Office of Language Services might have records pertaining to him/her.

RECORD ACCESS PROCEDURES:

Individuals who wish to gain access to or amend records pertaining to them should write to the Director, Office of Information Programs and Services (address above.)

CONTESTING RECORD PROCEDURES:

(See above.)

RECORD SOURCE CATEGORIES:

The individual; end-users of the contracted services; and various employees of the contracting office.

SYSTEM EXEMPTED FROM CERTAIN PROVISIONS OF THE ACT:

None.

[FR Doc. 2012-26235 Filed 10-23-12; 8:45 am]

BILLING CODE 4710-24-P